ENVIRONMENTAL PROTECTION AGENCY

[FRL-8540-7]

Science Advisory Board Staff Office; Notification of a Public Teleconference Meeting of the EPA Clean Air Scientific Advisory Committee CASAC Ozone Review Panel

AGENCY: Environmental Protection Agency (EPA).

ACTION: Notice.

SUMMARY: The Environmental Protection Agency (EPA or Agency) Science Advisory Board (SAB) Staff Office announces a public teleconference meeting of the Clean Air Scientific Advisory Committee (CASAC) Ozone Review Panel (Panel) to hold follow-on discussions concerning the Final Rule for the National Ambient Air Quality Standards (NAAQS) for ozone.

DATES: The teleconference meeting will be held on Friday, March 28, 2008, from 1 p.m. to 4 p.m. (Eastern Time).

FOR FURTHER INFORMATION CONTACT: Any member of the public who wishes to obtain the teleconference meeting call-in number and access code; submit a written or brief oral statement (three minutes or less); or receive further information concerning this teleconference meeting, must contact Mr. Fred Butterfield, Designated Federal Officer (DFO). Mr. Butterfield may be contacted at the EPA Science Advisory Board (1400F), U.S. Environmental Protection Agency, 1200 Pennsylvania Avenue, NW., Washington, DC 20460; or via telephone/voice mail: 202-343-9994; fax: 202-233-0643; or e-mail at: butterfield.fred@epa.gov. General information concerning the CASAC or the SAB can be found on the EPA Web site at: http://www.epa.gov/casac or http://www.epa.gov/sab, respectively.

SUPPLEMENTARY INFORMATION: Background: The CASAC, which is comprised of seven members appointed by the EPA Administrator, was established under section 109(d)(2) of the Clean Air Act (CAA or Act) (42 U.S.C. 7409) as an independent scientific advisory committee. The CASAC provides advice, information and recommendations on the scientific and technical aspects of issues related to air quality criteria and NAAQS under sections 108 and 109 of the Act. The CASAC is chartered under the Federal Advisory Committee Act (FACA), as amended, 5 U.S.C., App. The CASAC Ozone Review Panel consists of the seven CASAC members supplemented by subject-matter-experts. The Panel provides advice and recommendations to EPA concerning ground-level ozone and related photochemical oxidants in ambient air. The Panel complies with the provisions of FACA and all appropriate SAB Staff Office procedural policies.

Section 109(d)(1) of the CAA requires that the Agency periodically review and revise, as appropriate, the air quality criteria and the National Ambient Air Quality Standards (NAAQS) for the six “criteria” air pollutants, including ambient ozone. Pursuant to sections 108 and 109 of the Act, EPA is in the process of reviewing the ozone NAAQS, which the Agency most recently revised in July 1997. The CASAC Ozone Review Panel last met in March 2007 to review the Agency's Final Ozone Staff Paper and, in particular, to offer additional, unsolicited advice to EPA on the chapters in this document concerning the primary (human health-related) and secondary (welfare effects-related) Ozone NAAQS. The purpose of such advice was to advise EPA as it developed its Proposed Rule for the NAAQS for ozone. The CASAC's letter to the Administrator from that teleconference review (EPA-CASAC-07-002, dated March 26, 2007) is posted on the CASAC's Web site at: http://www.epa.gov/casac. On June 20, 2007, EPA released the Proposed Rule for the NAAQS for Ozone.

The purpose of this teleconference meeting is for the Panel to hold follow-on discussions concerning the Final Rule for the NAAQS for ozone and, prospectively, to offer additional, unsolicited advice to the EPA Administrator on this final rule.

Technical Contact: Any questions concerning the Agency's Final Rule for the NAAQS for ozone should be directed to Dr. David McKee, EPA Office of Air Quality Planning and Standards (OAQPS), at phone: (919) 541-5288, or e-mail: mckee.dave@epa.gov.

Availability of Meeting Materials: EPA's Final Rule for the NAAQS for ozone will be posted on or before March 12, 2008 on the Agency's “Ground-level Ozone—Regulatory Actions” Web site at: http://epa.gov/air/ozonepollution/actions.html. A copy of the draft agenda and other materials for this CASAC teleconference meeting will be posted on the SAB Web site at: http://yosemite.epa.gov/sab/sabproduct.nsf/WebCASAC/recentadditions prior to the teleconference meeting.

Procedures for Providing Public Input: Interested members of the public may submit relevant written or oral information for the CASAC Ozone Review Panel to consider the topics included in this advisory activity and/or the group conducting the activity. Oral Statements: In general, individuals or groups requesting an oral presentation at a public teleconference will be limited to three minutes per speaker, with no more than a total of 30 minutes for all speakers. Interested parties should contact Mr. Butterfield, DFO, in writing (preferably via e-mail), by March 21, 2008, at the contact information noted above, to be placed on the list of public speakers for this teleconference meeting. Written Statements: Written statements should be received in the SAB Staff Office by March 25, 2008, so that the information may be made available to the Panel for its consideration prior to this teleconference meeting. Written statements should be supplied to the DFO electronically via e-mail (acceptable file formats: Adobe PDF, MS Word, WordPerfect, MS PowerPoint, or Rich Text files in IBM-PC/Windows 98/2000/XP format).

Accessibility: For information on access or services for individuals with disabilities, please contact Mr. Butterfield at the phone number or e-mail address noted above, preferably at least ten days prior to the teleconference meeting, to give EPA as much time as possible to process your request.

Dated: March 5, 2008.
Anthony F. Maciorowski,
Deputy Director, EPA Science Advisory Board Staff Office.

[FR Doc. E8-4826 Filed 3-10-08; 8:45 am]

BILLING CODE 6560-50-P